DEPARTMENT OF STATE

[Public Notice 4471]

Consular Affairs, Overseas Citizen Services, Office of Children's Issues; 60-Day Notice of Proposed Information Collection: Form DS-3077, The Children's Passport Issuance Alert Program; OMB Control Number 1405-XXXX

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: New Collection.

Originating Office: Bureau of Consular Affairs, Overseas Citizen Services, Office of Children's Issues, CA/OCS/CI.

Title of Information Collection: The Children's Passport Issuance Alert Progam.

Frequency: On occasion.

Form Number: DS-3077.

Respondents: Concerned U.S. parents, or their agents, who believe their child may be abducted.

Estimated Number of Respondents: 2400/year.

Average Hours Per Response: 30 minutes.

Total Estimated Burden: 1200 hours/year.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

For Additional Information: Public comments, or requests for additional information, regarding the collection listed in this notice should be directed to Sandra McNeilly, CA/OCS/CI, U.S. Department of State, Washington, DC 20520-4818, who may be reached on (202) 312-9710.

Dated: August 8, 2003.
Dianne M. Andruch,
Deputy Assistant Secretary, Bureau of Consular Affairs, Overseas Citizens Services, Department of State.

[FR Doc. 03-22911 Filed 9-8-03; 8:45 am]

BILLING CODE 4710-06-P